DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on August 18, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On August 18, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

As a result, the property and interests in property subject to U.S. jurisdiction of the following persons are blocked under the relevant sanctions authorities listed below.

Individuals

1. LOPEZ VEGA, Edwin Danney (a.k.a. “Pecho de Rata”), Limon, Costa Rica; DOB 02 Jan 1977; POB Centro Central, Limon, Costa Rica; nationality Costa Rica; Gender Male; Cedula No. 701210791 (Costa Rica) (individual) [ILLICIT-DRUGS-EO14059].

Designated pursuant to section 1(a)(i) of E.O. 14059 for having engaged in, or attempted to engage in, activities or transactions that have materially contributed to, or pose a significant risk of materially contributing to, the international proliferation of illicit drugs or their means of production.

2. GAMBOA SANCHEZ, Celso Manuel, Cartago, Costa Rica; DOB 21 Apr 1976; POB Carmen Central, San Jose, Costa Rica; nationality Costa Rica; Gender Male; Cedula No. 109380563 (Costa Rica) (individual) [ILLICIT-DRUGS-EO14059].

Designated pursuant to section 1(a)(i) of E.O. 14059 for having engaged in, or attempted to engage in, activities or transactions that have materially contributed to, or pose a significant risk of materially contributing to, the international proliferation of illicit drugs or their means of production.

3. JAMES WILSON, Alejandro Antonio (a.k.a. “Turesky”), San Jose, Costa Rica; DOB 05 Oct 1972; POB Centro Central, Limon, Costa Rica; nationality Costa Rica; Gender Male; Cedula No. 701040769 (Costa Rica) (individual) [ILLICIT-DRUGS-EO14059].

Designated pursuant to section 1(a)(i) of E.O. 14059 for having engaged in, or attempted to engage in, activities or transactions that have materially contributed to, or pose a significant risk of materially contributing to, the international proliferation of illicit drugs or their means of production.

4. ARIAS MONGE, Alejandro (a.k.a. “Diablo”), Limon, Costa Rica; DOB 19 Sep 1984; POB Guapiles Pococi, Limon, Costa Rica; nationality Costa Rica; Gender Male; Cedula No. 701600166 (Costa Rica) (individual) [ILLICIT-DRUGS-EO14059].

Designated pursuant to section 1(a)(i) of E.O. 14059 for having engaged in, or attempted to engage in, activities or transactions that have materially contributed to, or pose a significant risk of materially contributing to, the international proliferation of illicit drugs or their means of production.

Entities

1. LIMON BLACK STAR FC, Limon, Costa Rica; Organization Established Date 2022; Organization Type: Activities of sports clubs [ILLICIT-DRUGS-EO14059] (Linked To: GAMBOA SANCHEZ, Celso Manuel).

Designated pursuant to section 1(b)(iii) of E.O. 14059 for being owned, controlled, or directed by, or having acted or purported to act for or on behalf of, directly or indirectly, Celso Manuel Gamboa Sanchez, a person whose property and interests in property are blocked pursuant to E.O. 14059.

2. BUFETE CELSO GAMBOA AND ASOCIADOS, San Jose, Costa Rica; Organization Established Date 1945; Organization Type: Legal activities [ILLICIT-DRUGS-EO14059] (Linked To: GAMBOA SANCHEZ, Celso Manuel).

Designated pursuant to section 1(b)(iii) of E.O. 14059 for being owned, controlled, or directed by, or having acted or purported to act for or on behalf of, directly or indirectly, Celso Manuel Gamboa Sanchez, a person whose property and interests in property are blocked pursuant to E.O. 14059.

Bradley T. Smith,
Director, Office of Foreign Assets Control.

[FR Doc. 2025-16264 Filed 8-25-25; 8:45 am]

BILLING CODE 4810-AL-P